DEPARTMENT OF COMMERCE

National Oceanic and Atmospheric Administration

50 CFR Part 223

[I.D. 061896A]

RIN 0648-AK34

Endangered and Threatened Wildlife; Sea Turtle Conservation Requirements; Correction

AGENCY: National Marine Fisheries Service (NMFS), National Oceanic and Atmospheric Administration (NOAA), Commerce.

ACTION: Correcting amendments.

SUMMARY: NMFS is making a correction to a final rule published on March 23, 1999.

DATES: Effective on October 15, 2001.

FOR FURTHER INFORMATION CONTACT: Therese A. Conant, NMFS Office of Protected Resources, 1315 East-West Highway, Silver Spring, MD 20910; (ph. 301-713-1401, fax 301-713-0376, e-mail Therese.Conant@noaa.gov).

SUPPLEMENTARY INFORMATION:

Need for Correction

On March, 23, 1999 (64 FR 14052), NMFS published a final rule which consolidated and reorganized the Endangered Species Act regulations as part of the President’s Regulatory Reinvention Initiative. With that publication, NMFS inadvertently added an ‘and’ between 50 CFR 223.206 (d)(2)(ii)(A)(3) and (4). This addition inappropriately links the conditions of both paragraphs when, in fact, they were separate prior to the publication of the March 23, 1999, final rule.

List of Subjects in 50 CFR Part 223

Administrative practice and procedure, Endangered and threatened species, Exports, Imports, Reporting and recordkeeping requirements.

Dated: October 9, 2001.
William T. Hogarth,
Assistant Administrator for Fisheries, National Marine Fisheries Service.

Accordingly, 50 CFR part 223 is corrected by making the following correcting amendments:

PART 223—THREATENED MARINE AND ANADROMOUS SPECIES

1. The authority citation for part 223 continues to read as follows:

Authority: 16 U.S.C. 1531 et seq.

2. In § 223.206 (d)(2)(ii)(A)(3) is revised to read as follows:

§ 223.206 Exceptions to prohibitions relating to sea turtles.

* * * * *

(d) * * *

(2) * * *

(ii) * * *

(A) * * *

(3) Has only a pusher-head trawl, skimmer trawl, or wing net rigged for fishing;

* * * * *

[FR Doc. 01-25900 Filed 10-12-01; 8:45 am]

BILLING CODE 3510-22-S